INTERNATIONAL TRADE COMMISSION

[Investigation Nos. 731-TA-340-E and H (Second Review) (Remand)]

Solid Urea From Russia and Ukraine

AGENCY: United States International Trade Commission.

ACTION: Notice of remand proceedings.

SUMMARY: The U.S. International Trade Commission (“Commission”) hereby gives notice of the court-ordered remand of its five-year review determinations in the antidumping investigation Nos. 731-TA-340-E and H concerning solid urea from Russia and Ukraine. For further information concerning the conduct of this proceeding and rules of general application, consult the Commission's Rules of Practice and Procedure, part 201, subparts A through E (19 CFR part 201), and part 207, subpart A (19 CFR part 207).

DATES: Effective Date: September 27, 2007.

FOR FURTHER INFORMATION CONTACT: Michael Haldenstein, Office of General Counsel, telephone 202-205-3041, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record of investigation Nos. 731-TA-340 E & H may be viewed on the Commission's electronic docket (“EDIS”) at http://edis.usitc.gov.

SUPPLEMENTARY INFORMATION: Background. In December 2005, the Commission determined that revocation of the antidumping duty orders on solid urea from Russia and Ukraine would be likely to lead to continuation or recurrence of material injury to an industry in the United States within a reasonable foreseeable time. The Commission's determinations were appealed to the Court of International Trade. On August 28, 2007, the Court issued a decision remanding the matter to the Commission for further proceedings not inconsistent with that opinion. Nevinnomysskiy Azot v. United States, Slip Op. 07-130 (Ct. Int'l Trade, Aug. 28, 2007). In its opinion, the Court instructed the Commission to: (1) Provide, “in its examination of whether the likely volume of subject imports would prove significant if the antidumping orders in question are revoked, * * * more rigorous analysis of its assessment of the effects of third-country barriers;” (2) “address the deficiencies in its likely price effects argument, particularly the likely price effects of subject imports in light of the already substantial presence of low-cost non-subject imports in the domestic market;” and (3) “reassess the likely impact of subject imports on the domestic industry to account for the difference between the first sunset reviews' findings and the findings of the current review within the context of the domestic industry's recent improved performance.”

Participation in the proceeding. Only those persons who were interested parties to the reviews (i.e., persons listed on the Commission Secretary's service list) and were parties to the appeal may participate in the remand proceeding. Such persons need not make any additional filings with the Commission to participate in the remand proceeding. Business proprietary information (“BPI”) referred to during the remand proceeding will be governed, as appropriate, by the administrative protective order issued in the reviews.

Written submissions. The Commission is not reopening the record in this proceeding for submission of new factual information. The Commission will, however, permit the parties to file comments pertaining to the specific issues that are the subject of the CIT's remand instructions. Comments should be limited to no more than fifteen (15) double-spaced and single-sided pages of textual material. The parties may not submit any new factual information and may not address any issue other than those that are the subject of the CIT's remand instructions. Any such comments must be filed with the Commission no later than October 23, 2007.

All written submissions must conform with the provisions of section 201.8 of the Commission's rules; any submissions that contain BPI must also conform with the requirements of sections 201.6, 207.3, and 207.7 of the Commission's rules. The Commission's rules do not authorize filing of submissions with the Secretary by facsimile or electronic means, except to the extent permitted by section 201.8 of the Commission's rules, as amended, 67 FR 68036 (Nov. 8, 2002).

In accordance with §§ 201.16(c) and 207.3 of the Commission's rules, each document filed by a party to the investigation must be served on all other parties to the investigation (as identified by either the public or BPI service list), and a certificate of service must be timely filed. The Secretary will not accept a document for filing without a certificate of service.

Parties are also advised to consult with the Commission's Rules of Practice and Procedure, part 201, subparts A through E (19 CFR part 201), and part 207, subpart A (19 CFR part 207) for provisions of general applicability concerning written submissions to the Commission.

By order of the Commission.
Issued: September 27, 2007.
Marilyn R. Abbott,
Secretary to the Commission.

[FR Doc. E7-19456 Filed 10-2-07; 8:45 am]

BILLING CODE 7020-02-P